DEPARTMENT OF ENERGY

Federal Energy Regulatory Commission

[Docket No. RP96-190-021]

Colorado Interstate Gas Company; Notice of Negotiated Rates

November 6, 2002.

Take notice that on October 31, 2002, Colorado Interstate Gas Company (CIG) tendered for filing a Firm Transportation Service Agreement (FTSA) and the following tariff sheets to its FERC Gas Tariff, First Revised Volume No. 1,Eighth Revised Sheet No. 1; Original Sheet No. 11O; Original Sheet No. 11P; Original Sheet No. 11Q; Original Sheet No. 11R and Original Sheet No. 11S, to be effective December 1, 2002.

CIG states that the tendered tariff sheets, which are proposed to become effective December 1, 2002, implement three negotiated rate transactions representing partial contractual subscription of the Valley Line 2002 Expansion Project at Docket No. CP01-45-000, et al. In addition, the FTSA, which also constitutes an additional level of capacity subscription for the Valley Line 2002 Expansion Project, is being submitted for acceptance under the Commission's negotiated rate and material deviation policies, if applicable, and is also proposed to become effective December 1, 2002.

Any person desiring to be heard or to protest said filing should file a motion to intervene or a protest with the Federal Energy Regulatory Commission, 888 First Street, NE., Washington, DC 20426, in accordance with sections 385.214 or 385.211 of the Commission's rules and regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. Comments, protests and interventions may be filed electronically via the Internet in lieu of paper. The Commission strongly encourages electronic filings. See, 18 CFR 385.2001(a)(1)(iii) and the instructions on the Commission's Web site under the “e-Filing” link.

Magalie R. Salas,
Secretary.

[FR Doc. 02-28786 Filed 11-12-02; 8:45 am]

BILLING CODE 6717-01-P